DEPARTMENT OF EDUCATION

34 CFR Part 75

RIN 1890-AA09

Direct Grant Programs

AGENCY: Department of Education.

ACTION: Notice of proposed rulemaking.

SUMMARY: The Secretary proposes to amend regulations governing the process for submitting discretionary grant applications by removing current provisions requiring specific application formats, thereby permitting electronic submission of applications. The revisions will also clarify that only applicants submitting paper applications are required to submit one original and two copies of their application to the Department of Education (Department).

DATES: We must receive your comments on or before December 29, 2003.

ADDRESSES: Address all comments about these proposed regulations to Kevin Taylor, U.S. Department of Education, 400 Maryland Avenue, SW., room 3652, ROB-3, Washington, DC 20202-4248. If you prefer to send your comments through the Internet, use the following address: comments@ed.gov.

You must include the term “Electronic Applications” in the subject line of your electronic message.

FOR FURTHER INFORMATION CONTACT: Kevin Taylor. Telephone: (202) 708-8558 or via Internet: Kevin.Taylor@ed.gov.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding these proposed regulations. To ensure that your comments have maximum effect in developing the final regulations, we urge you to identify clearly the specific section or sections of the proposed regulations that each of your comments addresses and to arrange your comments in the same order as the proposed regulations.

During and after the comment period, you may inspect all public comments about these proposed regulations in room 3652, ROB-3, 7th and D Streets, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed regulations. If you want to schedule an appointment for this type of aid, please contact the person listed under FOR FURTHER INFORMATION CONTACT.

Background

The Government Paperwork Elimination Act (GPEA) of 1998, (Pub. L. 105-227) and the Federal Financial Assistance Management Improvement Act of 1999, (Pub. L. 106-107) encourage Federal departments and agencies to take initiatives to improve their business processes. Conducting business over the Internet with applicants and grantees has been a major part of the Department's response to these Acts.

The Department published a notice in the Federal Register on March 5, 2001 (66 FR 13381-13383), announcing its intention to pilot an electronic application submission process. These proposed regulations are a follow-up to the Department's successful implementation of the pilot system to accept applications electronically via the Internet. The proposed regulations would remove the requirement that an application be mailed or hand delivered to the Department. The removal of this requirement would permit the Department to receive electronic applications without using the pilot as authority for electronic submissions.

Since fiscal year (FY) 2000, the Department has used its Grant Administration and Payment System (GAPS) to conduct the pilot project. The on-going pilot project involves the use of an Internet-based system that allows grant applicants to submit their applications electronically. During FY 2000, eight discretionary grant programs were included in the pilot. Based on the results of the first year, the Department found that completing and submitting an application using the Internet was an effective way for applicants to submit their applications to the Department. In FY 2001, grant applicants had the opportunity to submit their applications electronically to 33 program competitions, and this figure increased to 52 program competitions in FY 2002. For FY 2003, the Department used its electronic application system (e-Application) for over 80 grant competitions.

The Department has received over 6,800 electronic applications since the pilot project began. Online survey responses indicate that most applicants were pleased with their experience using the Department's Web site to apply for a grant. In fact, 90 percent of respondents in FY 2001 and FY 2002 found the system easy to use and 95 percent said that they would use the system in future grant competitions.

The Department's electronic application system operates in conjunction with the current paper-based process. The Department announces in application notices and application packages when a particular grant program competition will accept applications electronically. Application packages and notices also include instructions for applicants that use the electronic application system that explain what to do if they are prevented from submitting their application by the closing date and time because the electronic application system is unavailable.

In addition to e-Application, the Department is working on a collaborative effort with 26 federal agencies to create a central Web site for federal funding opportunities. Visitors to the site can search for funding opportunities and, beginning in FY 2004, will be able to apply for a grant from the site. As the government-wide portal, Grants.gov, is fully implemented, each agency will increase over time the number of participating programs that applicants may apply for electronically in order to create a Federal-wide electronic grant application system.

The Department is currently using Grants.gov to post information on funding opportunities and is preparing to receive applications through the portal. These activities are part of an effort to consolidate and streamline grantmaking activities across the Federal Government to make it easier for the public to find and apply for Federal discretionary grants. The proposed regulations would increase the Department's flexibility to participate in these new electronic initiatives.

Under the new regulations, the Secretary could require an applicant to submit its application by the closing date and time as specified in the application notice for a grant program competition.

The proposed regulations would also clarify that only applicants submitting paper applications must submit one original and two copies of their application to the Department. Applicants submitting electronic applications would not be subject to § 75.109(a).

Significant Proposed Regulations

Section 75.102 Deadline Date for Applications

Current Regulations: The regulations in § 75.102 address only applications that are either sent via mail, or are hand delivered. The regulations do not currently reflect the Department's ability to accept electronic grant applications.

Proposed Regulations: Proposed § 75.102(a) and (b) would give the Secretary discretion to establish, in the Application Notice for a competition, the method for submitting an application to the Department. Paragraph (d) would be amended to limit its coverage to competitions that require applicants to send their paper applications to the Department by the deadline date specified in the application notice.

Reasons: The current regulations do not reflect the existing electronic application process. These proposed regulations would permit the Department to establish the method of applying for a grant in the application notice. These methods would include submissions of grant applications via an electronic application system designated by the Department. These provisions are aligned with the President's “e-Gov” initiatives for providing electronic services to the public and with current government-wide initiatives to enhance the public's access to information and to provide “one-stop shopping” for grants.

Section 75.109 Changes to Application; Number of Copies

Current Regulations: Section 75.109(a) currently requires that an applicant submit an original and two copies of its application to the Department.

Proposed Regulations: Proposed § 75.109(a) would clarify that applicants submitting electronic applications would not be required to submit more than one application to the Department.

Reasons: The proposed changes to this section are needed to make clear that only applicants submitting paper applications are required to send one original and two copies of their application to the Department.

Executive Order 12866

1. Potential Costs and Benefits

Under Executive Order 12866, we have assessed the potential costs and benefits of this regulatory action.

The potential costs associated with the proposed regulations are those resulting from statutory requirements and those we have determined to be necessary for administering these programs effectively and efficiently.

In assessing the potential costs and benefits—both quantitative and qualitative—of this regulatory action, we have determined that the benefits would justify the costs.

Summary of potential costs and benefits. These regulations establish an option for submitting applications and should not result in any additional costs for applicants. Elsewhere in this preamble, under the heading Significant Proposed Regulations, we discuss the potential costs and benefits of these proposed regulations.

2. Clarity of the Regulations

Executive Order 12866 and the Presidential memorandum on “Plain Language in Government Writing” require each agency to write regulations that are easy to understand.

The Secretary invites comments on how to make these proposed regulations easier to understand, including answers to questions such as the following:

• Are the requirements in the proposed regulations clearly stated?

• Do the proposed regulations contain technical terms or other wording that interferes with their clarity?

• Does the format of the proposed regulations (grouping and order of sections, use of headings, paragraphing, etc.) aid or reduce their clarity?

• Would the proposed regulations be easier to understand if we divided them into more (but shorter) sections? (A “section” is preceded by the symbol “§ ” and a numbered heading; for example, § 75.102 Deadline date for applications.

• Could the description of the proposed regulations in the SUPPLEMENTARY INFORMATION section of this preamble be more helpful in making the proposed regulations easier to understand? If so, how?

• What else could we do to make the proposed regulations easier to understand?

Send any comments that concern how the Department could make these proposed regulations easier to understand to the person listed in the ADDRESSES section of the preamble.

Regulatory Flexibility Act Certification

The Secretary certifies that these proposed regulations would not have a significant economic impact on a substantial number of small entities.

The small entities that would be affected by these proposed regulations are those that are applicants for Department grant programs, such as small local educational agencies (LEAs), non-profit organizations—including faith-based organizations, Indian tribal governments, and certain two- and four-year colleges. However, the regulations would not have a significant economic impact on these small entities because the regulations only permit additional ways for these entities to submit an application.

The proposed regulations would benefit both small and large entities by giving them additional possible options for submission of grant applications, including the ability to apply for a grant electronically via the Internet. Thus, both would experience a positive impact as a result of these proposed regulations.

Paperwork Reduction Act of 1995

These proposed regulations do not contain any information collection requirements.

Intergovernmental Review

These proposed regulations affect direct grant programs that are subject to Executive Order 12372 and the regulations in 34 CFR part 79. One of the objectives of the Executive Order is to foster an intergovernmental partnership and to strengthen federalism. The Executive order relies on processes developed by State and local governments for coordination and review of proposed Federal financial assistance.

This document provides early notification of our specific plans and actions for these programs.

Assessment of Educational Impact

The Secretary particularly requests comments on whether these proposed regulations would require transmission of information that any other agency or authority of the United States gathers or makes available.

Electronic Access to This Document

You may view this document, as well as all other Department of Education documents published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number does not apply.)

List of Subjects in 34 CFR Part 75

Administrative practice and procedure, Education Department, Grant programs—education, Grant administration, Performance reports, Reporting and recordkeeping requirements, Unobligated funds.

Dated: October 24, 2003.
Rod Paige,
Secretary of Education.

For the reasons discussed in the preamble, the Secretary proposes to amend part 75 of title 34 of the Code of Federal Regulations as follows:

PART 75—DIRECT GRANT PROGRAMS

1. The authority citation for Part 75 continues to read as follows:

Authority: 20 U.S.C 1221e-3 and 3474, unless otherwise noted.

2. Section 75.102 is amended by revising paragraphs (a) and (b), and the introductory text in paragraph (d) to read as follows:

§ 75.102 Deadline date for applications.

(a) The application notice for a program sets a deadline date for the transmittal of applications to the Department.

(b) If an applicant wants a new grant, the applicant must submit an application in accordance with the requirements in the application notice.

* * * * *

(d) If the Secretary provides that a paper application must be sent by the deadline date, an applicant must show one of the following as proof of mailing:

* * * * *

3. Section 75.109 is amended by revising paragraph (a) to read as follows:

§ 75.109 Changes to application; number of copies.

(a) Each applicant that submits a paper application shall submit an original and two copies to the Department, including any information that the applicant supplies voluntarily.

* * * * *

[FR Doc. 03-27376 Filed 10-29-03; 8:45 am]

BILLING CODE 4000-01-P